DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of Indianola, Nebraska
Docket No.: FEMA-B-1147
Nebraska | City of Indianola | Coon Creek | Approximately 260 feet downstream of Burlington Northern Railroad | + 2378
|  |  | Approximately 1.13 miles upstream of D Street | + 2397
* National Geodetic Vertical Datum.
+ North American Vertical Datum.
# Depth in feet above ground.
‸ Mean Sea Level, rounded to the nearest 0.1 meter.
ADDRESSES
City of Indianola
Maps are available for inspection at 210 North 4th Street, Indianola, NE 69034.
City of Sioux Falls, South Dakota
Docket No.: FEMA-B-1149
South Dakota | City of Sioux Falls | Big Sioux River | Approximately 0.5 mile downstream of Cliff Avenue, landward of north levee | + 1320
|  |  | Approximately 1,800 feet upstream of Cliff Avenue, landward of north levee. | + 1324
* National Geodetic Vertical Datum.
+ North American Vertical Datum.
# Depth in feet above ground.
‸ Mean Sea Level, rounded to the nearest 0.1 meter.
ADDRESSES
City of Sioux Falls
Maps are available for inspection at 224 West 9th Street, Sioux Falls, SD 57117.
City of Suffolk, Virginia (Independent City)
Docket No.: FEMA-B-1145
Virginia | City of Suffolk | Hampton Roads | From the intersection of Sandy Drive and South Road to approximately 310 feet south, extending approximately 500 feet west along Sandy Drive | + 8
Virginia | City of Suffolk | Unnamed ponding areas controlled by Hampton Roads | From the intersection of Sandy Drive and Hampton Road to approximately 1,100 feet south, and extending approximately 510 feet east along Sandy Drive | + 8
* National Geodetic Vertical Datum.
+ North American Vertical Datum.
# Depth in feet above ground.
‸ Mean Sea Level, rounded to the nearest 0.1 meter.
ADDRESSES
City of Suffolk
Maps are available for inspection at the City Manager's Office, 441 Market Street, Suffolk, VA 23434.

Flooding source(s) | Location of referenced elevation | * Elevation in feet (NGVD) + Elevation in feet (NAVD) # Depth in feet above ground ‸ Elevation in meters (MSL) Modified | Communities affected
Summit County, Colorado, and Incorporated Areas
Docket No.: FEMA-B-1049
Willow Creek | At the confluence with the Blue River | + 8682 | Town of Silverthorne, Unincorporated Areas of Summit County.
| Approximately 1,235 feet upstream of Ruby Road | + 8874
* National Geodetic Vertical Datum.
+ North American Vertical Datum.
# Depth in feet above ground.
‸ Mean Sea Level, rounded to the nearest 0.1 meter.
ADDRESSES
Town of Silverthorne
Maps are available for inspection at 601 Center Circle, Silverthorne, CO 80493.
Unincorporated Areas of Summit County
Maps are available for inspection at 208 East Lincoln Avenue, Breckenridge, CO 80424.
Marion County, Illinois, and Incorporated Areas
Docket No.: FEMA-B-1104
CEI Branch of Town Creek | Approximately 650 feet upstream of Chicago and Eastern Illinois Dam | + 530 | Unincorporated Areas of Marion County.
| Approximately 1,100 feet upstream of Old Yards Road | + 530
Crooked Creek | Approximately 1,650 feet downstream of West Green Street extended | + 464 | Unincorporated Areas of Marion County.
| Approximately at the upstream side of Breway Hill Road | + 468
Folks Creek | Approximately at the downstream side of Kell Street | + 515 | Unincorporated Areas of Marion County.
| Approximately at the upstream side of Blair Street | + 531
Fulton Branch | Approximately at the upstream side of the railroad | + 490 | City of Centralia.
| Approximately 300 feet upstream of U.S. Route 51 (Southbound Lane) | + 492
Fulton Branch Tributary | Approximately at the upstream side of Wabash Avenue | + 499 | City of Centralia.
| Approximately at the downstream side of U.S. Route 51 | + 512
Raccoon Creek | Approximately 0.85 mile downstream of Green Street Road | + 468 | Unincorporated Areas of Marion County.
| Approximately at the downstream side of Raccoon Lake Dam | + 468
Raccoon Lake | Approximately at the upstream side of Raccoon Lake Dam | + 480 | Unincorporated Areas of Marion County.
| Approximately 1.27 miles downstream of Illinois Route 161 | + 480
Town Creek | Approximately at the downstream side of Kell Street | + 502 | Unincorporated Areas of Marion County.
| Approximately 1,600 feet downstream of Tonti Road | + 550
Tributary No. 1 | Approximately at the upstream side of Franklin Street | + 530 | Unincorporated Areas of Marion County.
| Approximately 570 feet upstream of Franklin Street | + 530
Tributary No. 2 | Approximately 1,200 feet downstream of Lake Street extended | + 525 | Unincorporated Areas of Marion County.
| Approximately at the downstream side of West Blair Street | + 542
Unnamed Tributary A | Approximately 420 feet upstream of Green Street Road | + 468 | City of Centralia, Unincorporated Areas of Marion County.
| Approximately 90 feet downstream of Club House Road | + 468
* National Geodetic Vertical Datum.
+ North American Vertical Datum.
# Depth in feet above ground.
‸ Mean Sea Level, rounded to the nearest 0.1 meter.
ADDRESSES
City of Centralia
Maps are available for inspection at City Hall, 222 South Poplar Street, Centralia, IL 62801.
Unincorporated Areas of Marion County
Maps are available for inspection at the Marion County Courthouse, 100 Broadway Avenue, Salem, IL 62881.
Marshall County, Indiana, and Incorporated Areas
Docket No.: FEMA-B-1148
Yellow River | At East 4th Road | + 800 | Unincorporated Areas of Marshall County.
| Approximately 0.57 mile upstream of East 4th Road | + 800
* National Geodetic Vertical Datum.
+ North American Vertical Datum.
# Depth in feet above ground.
‸ Mean Sea Level, rounded to the nearest 0.1 meter.
ADDRESSES
Unincorporated Areas of Marshall County
Maps are available for inspection at the Marshall County Government Office, 112 West Jefferson Street, Plymouth, IN 46563.
Marshall County, Iowa, and Incorporated Areas
Docket No.: FEMA-B-1147
Iowa River | Approximately 0.47 mile downstream of Main Street Road | + 861 | Unincorporated Areas of Marshall County.
| Approximately 1.25 miles upstream of Prairie Avenue | + 881
* National Geodetic Vertical Datum.
+ North American Vertical Datum.
# Depth in feet above ground.
‸ Mean Sea Level, rounded to the nearest 0.1 meter.
ADDRESSES
Unincorporated Areas of Marshall County
Maps are available for inspection at Marshall County Courthouse, 1 East Main Street, Marshalltown, IA 50158.
Alpena County, Michigan (All Jurisdictions)
Docket No.: FEMA-B-1151
Lake Huron | From approximately 1.3 miles northwest of the intersection of Rockport Road and Old Grade Road, to approximately 700 feet southeast of the intersection of South State Avenue and Mason Street | + 583 | City of Alpena, Township of Alpena.
Lake Huron | From approximately 1,000 feet northeast of the intersection of Curtis Drive and U.S. Route 23, to approximately 4.5 miles southeast of the intersection of Wilds Road and Brousseau Road | + 583 | Township of Sanborn.
Long Lake | Entire shoreline within community | + 651 | Township of Alpena.
* National Geodetic Vertical Datum.
+ North American Vertical Datum.
# Depth in feet above ground.
‸ Mean Sea Level, rounded to the nearest 0.1 meter.
ADDRESSES
City of Alpena
Maps are available for inspection at 208 North 1st Avenue, Alpena, MI 49707.
Township of Alpena
Maps are available for inspection at 4385 U.S. Route 23 North, Alpena, MI 49707.
Township of Sanborn
Maps are available for inspection at 10068 Ossineke Road, Ossineke, MI 49766.
Sherburne County, Minnesota, and Incorporated Areas
Docket No.: FEMA-B-1125
Big Elk Lake | Entire shoreline | + 969 | Unincorporated Areas of Sherburne County.
Briggs Lake | Entire shoreline | + 969 | Unincorporated Areas of Sherburne County.
Eagle Lake | Entire shoreline | + 928 | Unincorporated Areas of Sherburne County.
Elk Lake | Entire shoreline | + 953 | Unincorporated Areas of Sherburne County.
Elk River | Approximately 50 feet upstream of U.S. Route 10 | + 877 | City of Becker, City of Big Lake, City of Elk River, Unincorporated Areas of Sherburne County.
| At Big Elk Lake | + 969
Fremont Lake | Entire shoreline | + 977 | City of Zimmerman, Unincorporated Areas of Sherburne County.
Julia Lake | Entire shoreline | + 969 | Unincorporated Areas of Sherburne County.
Long Pond | Entire shoreline | + 966 | Unincorporated Areas of Sherburne County.
Rush Lake | Entire shoreline | + 969 | Unincorporated Areas of Sherburne County.
Trott Brook | At the Anoka County boundary | + 879 | City of Elk River.
| Approximately 0.86 mile upstream of Brook Road | + 943
* National Geodetic Vertical Datum.
+ North American Vertical Datum.
# Depth in feet above ground.
‸ Mean Sea Level, rounded to the nearest 0.1 meter.
ADDRESSES
City of Becker
Maps are available for inspection at City Hall, 12060 Sherburne Avenue, Becker, MN 55308.
City of Big Lake
Maps are available for inspection at City Hall, 160 Lake Street North, Big Lake, MN 55309.
City of Elk River
Maps are available for inspection at City Hall, 13065 Orono Parkway, Elk River, MN 55330.
City of Zimmerman
Maps are available for inspection at City Hall, 12980 Fremont Avenue, Zimmerman, MN 55398.
Unincorporated Areas of Sherburne County
Maps are available for inspection at the Sherburne County Government Center, 13880 U.S. Route 10, Elk River, MN 55330.
Clark County, Nevada, and Incorporated Areas
Docket No.: FEMA-B-1133
Las Vegas Wash | At the mouth of Las Vegas Wash (Lake Las Vegas Parkway) | + 1431 | City of Henderson, City of Las Vegas, City of North Las Vegas, Unincorporated Areas of Clark County.
| Approximately 375 feet upstream of North Las Vegas Boulevard | + 1852
Unnamed Tributary to Las Vegas Wash A Channel | Approximately 1,000 feet upstream of the intersection of Las Vegas Wash and Las Vegas Boulevard | + 1857 | City of North Las Vegas.
| Approximately 400 feet downstream of I-15 | + 1886
Unnamed Wash Along Gowan Road | Approximately 180 feet upstream of the intersection of North Rancho Drive and West Gowan Road | + 2256 | City of Las Vegas, Unincorporated Areas of Clark County.
| At the intersection of West Gowan Road and U.S. Route 95 | + 2311
Unnamed Wash Along Maverick Street and Duncan Drive | Approximately 300 feet upstream of the intersection of Duncan Drive and North Rancho Drive | + 2258 | City of Las Vegas, Unincorporated Areas of Clark County.
| Approximately 150 feet downstream of the intersection of West Gowan Road and Maverick Street | + 2280
Unnamed Wash Along North Rancho Drive | Approximately 300 feet upstream of the intersection of North Rancho Drive and North Decatur Boulevard | + 2209 | City of Las Vegas, City of North Las Vegas.
| Approximately 250 feet upstream of the intersection of North Rancho Drive and West Craig Road | + 2298
Unnamed Wash along U.S. Route 95 | At the intersection of West Gowan Street and U.S. Route 95 | + 2317 | City of Las Vegas.
| Approximately 950 feet upstream of the intersection of U.S. Route 95 and West Craig Road | + 2325
* National Geodetic Vertical Datum.
+ North American Vertical Datum.
# Depth in feet above ground.
‸ Mean Sea Level, rounded to the nearest 0.1 meter.
ADDRESSES
City of Henderson
Maps are available for inspection at the Public Works Department, 240 Water Street, Henderson, NV 89015.
City of Las Vegas
Maps are available for inspection at the Public Works Department, 400 Stewart Avenue, Las Vegas, NV 89101.
City of North Las Vegas
Maps are available for inspection at the Public Works Department, 2200 Civic Center Drive, North Las Vegas, NV 89030.
Unincorporated Areas of Clark County
Maps are available for inspection at the Clark County Public Works Department, 500 South Grand Central Parkway, Las Vegas, NV 89155.
Lincoln County, New Mexico, and Incorporated Areas
Docket No.: FEMA-B-1109
Brady Canyon | At the confluence with the Rio Ruidoso | + 6746 | Unincorporated Areas of Lincoln County, Village of Ruidoso.
| Approximately 1,100 feet upstream of Ash Drive | + 6948
Carrizo Creek | At the confluence with the Rio Ruidoso | + 6553 | Unincorporated Areas of Lincoln County, Village of Ruidoso.
| Just upstream of Carrizo Canyon Road | + 6751
Cedar Creek | At the confluence with the Rio Ruidoso | + 6534 | Unincorporated Areas of Lincoln County, Village of Ruidoso.
| Approximately 500 feet upstream of Musket Ball Drive | + 7160
Cherokee Bill Canyon | At the confluence with the Rio Ruidoso | + 6446 | Unincorporated Areas of Lincoln County, Village of Ruidoso.
| Approximately 1,800 feet upstream of Dunagan Trail | + 6693
Musket Ball Creek | Just upstream of Cedar Creek Drive | + 7150 | Unincorporated Areas of Lincoln County.
| Approximately 285 feet upstream of Musket Ball Drive | + 7216
North Fork Cedar Creek | Approximately 1,750 feet downstream of Spring Canyon Road | + 7160 | Unincorporated Areas of Lincoln County.
| Just downstream of Watson Road | + 7302
Rio Bonito | Approximately 650 feet downstream of State Highway 48 | + 6845 | Unincorporated Areas of Lincoln County.
| Just downstream of Bonito Lake Dam | + 7318
Rio Ruidoso | Approximately 1.0 mile downstream of County Road 17 | + 5188 | City of Ruidoso Downs, Unincorporated Areas of Lincoln County, Village of Ruidoso.
| Approximately 800 feet upstream of Malone Road | + 7168
Salado Creek | Approximately 320 feet upstream of U.S. Route 380 | + 6382 | Unincorporated Areas of Lincoln County, Village of Capitan.
| Approximately 110 feet upstream of Dean Drive | + 6484
South Fork Cedar Creek | Approximately 480 feet downstream of Chuck Wagon Road | + 7160 | Unincorporated Areas of Lincoln County.
| Approximately 330 feet upstream of Jarratt Drive | + 7233
* National Geodetic Vertical Datum.
+ North American Vertical Datum.
# Depth in feet above ground.
‸ Mean Sea Level, rounded to the nearest 0.1 meter.
ADDRESSES
City of Ruidoso Downs
Maps are available for inspection at 122 Downs Drive, Ruidoso Downs, NM 88346.
Unincorporated Areas of Lincoln County
Maps are available for inspection at the Lincoln County Floodplain Manager's Office, 115 Kansas City Road, Ruidoso, NM 88345.
Village of Capitan
Maps are available for inspection at the Lincoln County Floodplain Manager's Office, 115 Kansas City Road, Ruidoso, NM 88345.
Village of Ruidoso
Maps are available for inspection at 313 Cree Meadows Drive, Ruidoso, NM 88345.
Erath County, Texas, and Incorporated Areas
Docket No.: FEMA-B-1112
North Bosque River | Just upstream of East Lingleville Road | + 1265 | Unincorporated Areas of Erath County.
| Approximately 0.5 mile upstream of State Highway 108 | + 1276
* National Geodetic Vertical Datum.
+ North American Vertical Datum.
# Depth in feet above ground.
‸ Mean Sea Level, rounded to the nearest 0.1 meter.
ADDRESSES
Unincorporated Areas of Erath County
Maps are available for inspection at the Erath County Courthouse, 100 West Washington, Stephenville, TX 76401.
Pierce County, Wisconsin, and Incorporated Areas
Docket No.: FEMA-B-1100
Bay City Creek | Approximately 900 feet upstream of State Highway 35 | + 690 | Unincorporated Areas of Pierce County.
| Approximately 1,000 feet upstream of State Highway 35 | + 691
Eau Galle River | Approximately 0.8 mile upstream of Winter Avenue (State Highway 72) | + 846 | Unincorporated Areas of Pierce County.
| Approximately 0.9 mile upstream of Winter Avenue (State Highway 72) | + 847
Kinnickinnic River | Approximately 1,600 feet downstream of Lake Louise Dam | + 810 | Unincorporated Areas of Pierce County.
| Approximately 1,000 feet downstream of Lake Louise Dam | + 812
Mississippi River | At the Pepin County boundary | + 681 | City of Prescott, Unincorporated Areas of Pierce County, Village of Bay City, Village of Maiden Rock.
| Approximately 1,700 feet south of the intersection of State Highway 35 and Walter Street | + 690
Rush Coulee | Approximately 250 feet downstream of Maple Avenue (County Highway S) | + 832 | Unincorporated Areas of Pierce County.
| At Maple Avenue (County Highway S) | + 833
* National Geodetic Vertical Datum.
+ North American Vertical Datum.
# Depth in feet above ground.
‸ Mean Sea Level, rounded to the nearest 0.1 meter.
ADDRESSES
City of Prescott
Maps are available for inspection at City Hall, 800 Borner Street North, Prescott, WI 54021.
Unincorporated Areas of Pierce County
Maps are available for inspection at the Pierce County Courthouse, 414 West Main Street, Ellsworth, WI 54011.
Village of Bay City
Maps are available for inspection at the Village Hall, West 6371 Main Street, Bay City, WI 54723.
Village of Maiden Rock
Maps are available for inspection at the Village Hall, West 3535 State Highway 35, Maiden Rock, WI 54750.

(Catalog of Federal Domestic Assistance No. 97.022, “Flood Insurance.”)

Dated: October 28, 2011.
David L. Miller,
Associate Administrator, Federal Insurance and Mitigation Administration, Department of Homeland Security, Federal Emergency Management Agency.

[FR Doc. 2011-28974 Filed 11-8-11; 8:45 am]

BILLING CODE 9110-12-P